DEPARTMENT OF THE INTERIOR

Fish and Wildlife Service

[FWS-R3-ES-2010-N140; 30120-1113-0000-F6]

Endangered and Threatened Wildlife and Plants; Indiana Bat; Notice of Intent To Prepare an Environmental Impact Statement on a Proposed Habitat Conservation Plan and Incidental Take Permit

AGENCY: Fish and Wildlife Service, Interior.

ACTION: Notice of intent; request for comments.

SUMMARY: We, the U.S. Fish and Wildlife Service (Service), intend to prepare an Environmental Impact Statement (EIS) on a proposed Habitat Conservation Plan (HCP) and Incidental Take Permit (ITP) for the Indiana Bat (Myotis sodalis) at a wind power project in Adair, Sullivan, and Putnam Counties, Missouri (Project). Construction and operation of the Project has the potential to cause the take of Indiana bat, an endangered species, protected by the Endangered Species Act (ESA). We provide this notice to advise other agencies, tribes, and the public of our intentions, and to obtain suggestions and information on the scope of review under NEPA (National Environmental Policy Act), as well as issues to consider during the planning process.

DATES: We will consider comments we receive on or before September 9, 2010.

ADDRESSES: You may submit comments by one of the following methods:

U.S. mail or hand-delivery: Ms. Jane Ledwin, U.S. Fish and Wildlife Service, 101 Park DeVille Drive, Suite A, Columbia, MO 65203.

E-mail: jane_ledwin@fws.gov.

Facsimile: (573) 234-2181 (Attention: Jane Ledwin).

FOR FURTHER INFORMATION CONTACT: Ms. Jane Ledwin, (573) 234-2132. Individuals who are hearing impaired or speech impaired may call the Federal Relay Service at (800) 877-8337 for TTY assistance.

SUPPLEMENTARY INFORMATION:

Public Comments

We request data, comments, new information, or suggestions from the public, other concerned governmental agencies, the scientific community, tribes, industry, or any other interested party on this notice. We will consider all comments we receive in complying with the requirements of NEPA and in the development of an HCP, NEPA document, and potential ITP.

You may submit your comments and materials considering this notice by one of the methods listed in the ADDRESSES section.

Comments and materials we receive, as well as supporting documentation we use in preparing the NEPA document, will be available for public inspection by appointment, during normal business hours, at the U.S. Fish and Wildlife Service, Ecological Services Missouri Field Office (see FOR FURTHER INFORMATION CONTACT section).

You may obtain copies of this notice by mail from the Ecological Services Missouri Field Office, or on the Internet at: http://www.fws.gov/midwest/Endangered/permits/hcp/r3hcps.html.

Background

The Indiana Bat was added to the list of Endangered and Threatened Wildlife and Plants on March 11, 1967 (32 FR 4001). It is currently listed as an endangered species under the ESA (16 U.S.C. 1531 et seq.) The population has declined as a result of pesticides, agricultural development, and loss of forest habitat affecting the summer range. Impacts to caves used for hibernation have also contributed to population declines. White-nose syndrome (Geomyces destructans), a fungus causing infected bats to rouse from hibernation early and attempt to hunt for food, is now believed to be a cause of death in Indiana bats.

The range of the Indiana bat extends from eastern Vermont, western Oklahoma, southern Wisconsin, and northern Florida. Indiana bats migrate between their summer forested ranges and winter hibernacula, which typically are climatically stable caves and mines. During summer months, they forage for insects along streams, in riparian forests and floodplains, and in upland forests and low open areas. Males roost individually or in small groups throughout the range, preferring areas near hibernacula. Females, forming larger maternity colonies of 50 to 100, roost in dead or dying trees or living trees with broken and flaking bark.

There are no known hibernacula in the Project area or nearby. However, maternity roosts and maternity colonies have been identified proximate to and within the Project area. The Service and the Applicant have determined that the development and operation of the Project, in proximity to summer maternity colonies and spring and fall migratory flight paths, may affect the Indiana bat and their habitat, possibly resulting in the involuntary take of Indiana bats.

Shuteye, LLC continues to develop an HCP and plans to request issuance of an ITP from the Service. The HCP will include the following: (1) Conservation measures for siting and constructing the Project, (2) postconstruction monitoring to gather data regarding the impact of the first phase on local Indiana bats; and (3) an Adaptive Management Plan to ensure appropriate procedures are in place which adequately modify operations to minimize and mitigate the effects the Project may have on the Indiana bat.

The Project will encompass portions of Adair, Sullivan, and Putnam Counties, Missouri, near the towns of Greencastle and Green City. It will directly affect 240 acres, or 0.7 percent of approximately 36,757 acres of privately leased rural land. This area is an agricultural landscape composed predominately of pasture land, with some cultivated cropland and isolated areas of deciduous forest scattered throughout.

The Project will provide as much as 300 megawatts (MW) of renewable energy from as many as 200 1.5-MW wind energy turbines and the related facilities (access roads, collection lines, operation and maintenance facilities (O&M), substations, and a transmission line). The Project will be constructed in two phases. Phase I involves up to 200 MWs of renewable energy and includes a 16-mile transmission line extending from the Project area east to a substation located southwest of the city of Kirksville, Missouri.

Phase II consists of the balance of the Project and will not be developed until at least 1 full year of postconstruction data is obtained, and the Applicant and the Service have agreed that all reasonable measures have been taken to minimize and mitigate harm to the Indiana bat. This information will be used to determine whether adaptive management is required and to assist in the design and operation of Phase II of the Project.

Turbine installation will temporarily impact a 125-to-150-foot radius surrounding a turbine, with the final footprint limited to a 25-foot radius from the turbine center. The rotor diameter of each turbine will be approximately 82.5 meters (271 feet), with the hub height expected to be at either 80 or 100 m. Assuming a 100-m hub height, the maximum height of each turbine will be 141.25 m (463 feet (ft)) when the rotor blade is at the top of its rotation.

Access roads during construction will be within a 50-ft right-of-way (ROW) and will be used for moving construction equipment among the turbine locations. The access roads will be reduced to 15 feet after construction and will be used for Project maintenance.

Collection lines, used to transfer power from the turbines to the substations, will be buried underground and will not disturb the landscape after construction is completed. A transmission line will be constructed within a 150-ft-wide ROW. Wood H-frames, varying from 60 to 115 ft in height and spaced from 600 to 700 ft apart, will be used to support the transmission line. The Project may have up to four substations and two O&M facilities.

Environmental Review

The purpose of the public scoping process is to identify relevant issues that will influence the scope of the environmental analysis, including alternatives, and guide the process for developing the EIS. In addition to the Indiana bat, the Service has identified the following preliminary issues: Nonavian wildlife, avian wildlife and bats, topography, geology and soils, water and wetlands resources, air quality, vegetation and land use, and cultural resources.

Authority

We furnish this notice under NEPA regulations (40 CFR 1501.7 and 1508.22). The intent of this notice is to enable us to obtain suggestions and additional information from other agencies and the public on the scope of issues to be considered.

Dated: July 26, 2010.
Tom Melius,
Regional Director, Region 3, Fort Snelling, MN.

[FR Doc. 2010-19721 Filed 8-9-10; 8:45 am]

BILLING CODE 4310-55-P